MARINE MAMMAL COMMISSION

Sunshine Act Notice

TIME AND DATE: The Marine Mammal Commission and its Committee of Scientific Advisors on Marine Mammals will hold a public meeting on Tuesday, 12 April 2022, from 2:00 p.m. to 5:00 p.m. (Eastern Daylight Time).

PLACE: This meeting will be conducted by remote means.

STATUS: This meeting will be held in accordance with the provisions of the Government in the Sunshine Act (5 U.S.C. 552b) and the Federal Advisory Committee Act (5 U.S.C. App. I) and will be open to the public. Public participation will be allowed as time permits and as determined to be desirable by the Chairman. The Commission will livestream the meeting via a Zoom webinar. For further information and to register for the webinar, go to the Commission's website at https://www.mmc.gov/events-meetings-and-workshops/other-events/approaches-to-reducing-vessel-strike-of-cetaceans/.

MATTERS TO BE CONSIDERED: The Commission and Committee of Scientific Advisors will meet to consider actions for reducing vessel strike of large cetaceans. Specifically, meeting participants will review Federal vessel-routing and speed-reduction programs, their elements, and effectiveness, identify locations where additional measures are or may be needed, and consider recommendations for next steps. The agenda for the meeting is posted on the Commission's website at https://www.mmc.gov/events-meetings-and-workshops/other-events/approaches-to-reducing-vessel-strike-of-cetaceans/.

FOR FURTHER INFORMATION CONTACT: Brady O'Donnell or Hannah Wellman, Marine Mammal Commission, 4340 East West Highway, Room 700, Bethesda, MD 20814; (301) 504-0087; email: mmc@mmc.gov.

Peter O. Thomas,
Executive Director.

[FR Doc. 2022-06782 Filed 3-28-22; 11:15 am]

BILLING CODE 6820-31-P